DEPARTMENT OF COMMERCE

International Trade Administration

[Application No. 08-00008]

Export Trade Certificate of Review

ACTION: Notice of Withdrawal of an Application for an Export Trade Certificate of Review Submitted by the American Sugar Export Company LLC.

SUMMARY: On June 12, 2008, Export Trading Company Affairs published a notice in the Federal Register (73 FR 3394) of an application for an Export Trade Certificate of Review submitted by the American Sugar Export Company LLC (ASEC). On October 8, 2008, ASEC withdrew its application.

FOR FURTHER INFORMATION CONTACT: Jeffrey Anspacher, Director, Export Trading Company Affairs, International Trade Administration, by telephone at (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. Under the regulations implementing Title III, an applicant may withdraw an application by written request at any time before the Secretary has determined whether to issue a certificate. 15 CFR 325.3(f).

Dated: October 14, 2008.
Jeffrey Anspacher,
Director, Export Trading Company Affairs.

[FR Doc. E8-24760 Filed 10-16-08; 8:45 am]

BILLING CODE 3510-DR-P